DEPARTMENT OF ENERGY

Federal Energy Regulatory Commission

Combined Notice of Filings

Take notice that the Commission has received the following Natural Gas Pipeline Rate and Refund Report filings:

Filings Instituting Proceedings

Docket Numbers: RP16-175-000.

Applicants: Talen Energy Marketing, LLC, TransCanada Power Marketing, Ltd., TransCanada Facility USA, Inc.

Description: Joint Petition for Limited Waiver of Talen Energy Marketing, LLC et. al. for Authorization Under Section 203 of the FPA and Request for Limited Waivers.

Filed Date: 11/6/15.

Accession Number: 20151106-5199.

Comments Due: 5 p.m. ET 11/18/15.

Docket Numbers: RP16-176-000.

Applicants: Horizon Pipeline Company, L.L.C.

Description: § 4(d) Rate Filing: Main Line Generation Negotiated Rate to be effective 12/9/2015.

Filed Date: 11/9/15.

Accession Number: 20151109-5072.

Comments Due: 5 p.m. ET 11/23/15.

Docket Numbers: RP16-177-000.

Applicants: Enable Mississippi River Transmission, L.

Description: § 4(d) Rate Filing: Negotiated Rate Filing to Amend LER 5680's Attachment A_11_9_15 to be effective 11/9/2015.

Filed Date: 11/9/15.

Accession Number: 20151109-5123.

Comments Due: 5 p.m. ET 11/23/15.

Docket Numbers: RP16-178-000.

Applicants: Southern Natural Gas Company, L.L.C.

Description: § 4(d) Rate Filing: Negotiated Rate Filing—MGAG to be effective 12/10/2015.

Filed Date: 11/9/15.

Accession Number: 20151109-5179.

Comments Due: 5 p.m. ET 11/23/15.

Docket Numbers: RP16-179-000.

Applicants: Gulf South Pipeline Company, LP.

Description: § 4(d) Rate Filing: Rate Case Settlement Amendments 4 to be effective 11/1/2015.

Filed Date: 11/10/15.

Accession Number: 20151110-5148.

Comments Due: 5 p.m. ET 11/23/15.

Docket Numbers: RP16-180-000.

Applicants: TC Offshore LLC.

Description: § 4(d) Rate Filing: Positive Negative Transporter's Use to be effective 12/12/2015.

Filed Date: 11/12/15.

Accession Number: 20151112-5011.

Comments Due: 5 p.m. ET 11/24/15.

Docket Numbers: RP16-181-000.

Applicants: QEP Marketing Company, Inc., QEP Energy Company, Inc.

Description: Joint Petition of QEP Marketing Company, Inc. and QEP Energy Company, Inc. for Temporary Waiver of Capacity Release Regulations, Policies and Related Tariff Provisions, and Request for Shortened Comment Period and Expedited Treatment.

Filed Date: 11/10/15.

Accession Number: 20151110-5202.

Comments Due: 5 p.m. ET 11/18/15.

Docket Numbers: RP16-182-000.

Applicants: Transcontinental Gas Pipe Line Company.

Description: § 4(d) Rate Filing: GSS LSS Tracker Filing 11/12/15 to be effective 11/1/2015.

Filed Date: 11/12/15.

Accession Number: 20151112-5151.

Comments Due: 5 p.m. ET 11/24/15.

Docket Numbers: RP16-183-000.

Applicants: Iroquois Gas Transmission System, L.P.

Description: § 4(d) Rate Filing: 11/12/15 Negotiated Rates—Freepoint Commodiities LLC (RTS) 7250-15 to be effective 11/11/2015.

Filed Date: 11/12/15.

Accession Number: 20151112-5178.

Comments Due: 5 p.m. ET 11/24/15.

Docket Numbers: RP16-184-000.

Applicants: Cameron Interstate Pipeline, LLC.

Description: § 4(d) Rate Filing: Cameron Interstate Pipeline Revised Sections 8.10, 9.0 and 10.0 to be effective 12/31/2015.

Filed Date: 11/12/15.

Accession Number: 20151112-5186.

Comments Due: 5 p.m. ET 11/24/15.

Docket Numbers: RP16-185-000.

Applicants: Natural Gas Pipeline Company of America.

Description: § 4(d) Rate Filing: Salem Negotiated Rate Filing to be effective 12/1/2015.

Filed Date: 11/12/15.

Accession Number: 20151112-5200.

Comments Due: 5 p.m. ET 11/24/15.

Docket Numbers: RP16-186-000.

Applicants: Enable Gas Transmission, LLC.

Description: § 4(d) Rate Filing: Negotiated Rate Filing—December 2015—AECC 9537 to be effective 12/1/2015.

Filed Date: 11/12/15.

Accession Number: 20151112-5224.

Comments Due: 5 p.m. ET 11/24/15.

Docket Numbers: RP16-188-000.

Applicants: Gulf South Pipeline Company, LP.

Description: § 4(d) Rate Filing: Rate Case Settlement Amendments 5 to be effective 11/1/2015.

Filed Date: 11/12/15.

Accession Number: 20151112-5257.

Comments Due: 5 p.m. ET 11/24/15.

Docket Numbers: RP16-189-000.

Applicants: Gulf South Pipeline Company, LP.

Description: § 4(d) Rate Filing: Cap Rel Neg Rate Agmt (Petro 41455 to BP 45463) to be effective 11/1/2015.

Filed Date: 11/13/15.

Accession Number: 20151113-5021.

Comments Due: 5 p.m. ET 11/25/15.

Docket Numbers: RP16-190-000.

Applicants: Gulf South Pipeline Company, LP.

Description: § 4(d) Rate Filing: Cap Rel Neg Rate Agmt (FPL 41618 to Tenaska 44471) to be effective 11/1/2015.

Filed Date: 11/13/15.

Accession Number: 20151113-5022.

Comments Due: 5 p.m. ET 11/25/15.

Docket Numbers: RP16-191-000.

Applicants: Gulf South Pipeline Company, LP.

Description: § 4(d) Rate Filing: Cap Rel Neg Rate Agmt (EOG 34687 to Tenaska 44471, Trans LA 45387) to be effective 11/1/2015.

Filed Date: 11/13/15.

Accession Number: 20151113-5025.

Comments Due: 5 p.m. ET 11/25/15.

Docket Numbers: RP16-192-000.

Applicants: Gulf South Pipeline Company, LP.

Description: § 4(d) Rate Filing: Cap Rel Neg Rate Agmt (Atlanta Gas to Various eff 11-1-15) to be effective 11/1/2015.

Filed Date: 11/13/15.

Accession Number: 20151113-5026.

Comments Due: 5 p.m. ET 11/25/15.

Docket Numbers: RP16-193-000.

Applicants: Gulf South Pipeline Company, LP.

Description: § 4(d) Rate Filing: Cap Rel Neg Rate Agmt (Encana 37663 to BP 454409, 45470) to be effective 11/1/2015.

Filed Date: 11/13/15.

Accession Number: 20151113-5027.

Comments Due: 5 p.m. ET 11/25/15.

Docket Numbers: RP16-194-000.

Applicants: Pine Prairie Energy Center, LLC.

Description: § 4(d) Rate Filing: Pine Prairie Energy Center, LLC—Proposed Revisions to FERC Gas Tariff to be effective 12/14/2015.

Filed Date: 11/13/15.

Accession Number: 20151113-5089.

Comments Due: 5 p.m. ET 11/25/15.

Docket Numbers: RP16-195-000.

Applicants: Discovery Gas Transmission LLC.

Description: § 4(d) Rate Filing: 2016 HMRE Filing to be effective 1/1/2016.

Filed Date: 11/13/15.

Accession Number: 20151113-5096.

Comments Due: 5 p.m. ET 11/25/15.

Docket Numbers: RP16-196-000.

Applicants: Southern Natural Gas Company, L.L.C.

Description: Operational Transactions Report of Southern Natural Gas Company, L.L.C.

Filed Date: 11/13/15.

Accession Number: 20151113-5137.

Comments Due: 5 p.m. ET 11/25/15.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP15-785-001.

Applicants: ANR Pipeline Company.

Description: Compliance filing Compliance to 2015 DTCA Settlement to be effective 5/1/2013.

Filed Date: 11/10/15.

Accession Number: 20151110-5038.

Comments Due: 5 p.m. ET 11/23/15.

Docket Numbers: RP13-751-002.

Applicants: Algonquin Gas Transmission, LLC.

Description: Compliance filing Reservation Charge Crediting Compliance Filing to be effective 12/31/9998.

Filed Date: 11/13/15.

Accession Number: 20151113-5104.

Comments Due: 5 p.m. ET 11/25/15.

Docket Numbers: RP16-123-001.

Applicants: Transcontinental Gas Pipe Line Company.

Description: Tariff Amendment: DPEs—Piedmont—2nd Correction Filing to be effective 12/1/2015.

Filed Date: 11/13/15.

Accession Number: 20151113-5213.

Comments Due: 5 p.m. ET 11/25/15.

Docket Numbers: RP16-148-001.

Applicants: Texas Eastern Transmission, LP.

Description: Tariff Amendment: Errata Filing for TETLP 2015 ASA Filing RP16-148-000 to be effective 12/1/2015.

Filed Date: 11/16/15.

Accession Number: 20151116-5000.

Comments Due: 5 p.m. ET 11/23/15.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2015.
Nathaniel J. Davis, Sr.,
Deputy Secretary.

[FR Doc. 2015-29761 Filed 11-20-15; 8:45 am]

BILLING CODE 6717-01-P